DEPARTMENT OF COMMERCE

International Trade Administration

[A-570-106]

Wooden Cabinets and Vanities and Components Thereof From the People's Republic of China: Initiation and Preliminary Results of Antidumping Duty Changed Circumstances Review

AGENCY: Enforcement and Compliance, International Trade Administration, Department of Commerce.

SUMMARY: The Department of Commerce (Commerce) is initiating a changed circumstances review (CCR) of the antidumping duty (AD) order on wooden cabinets and vanities and components thereof (cabinets) from the People's Republic of China (China) and simultaneously issuing preliminarily results, finding that Goldenhome Living Co., Ltd., (Goldenhome) is the successor-in-interest to Xiamen Goldenhome Co., Ltd., (Xiamen Goldenhome).

DATES: Effective September 2, 2021.

FOR FURTHER INFORMATION CONTACT: Jacob Keller, AD/CVD Operations Office I, Enforcement and Compliance, International Trade Administration, U.S. Department of Commerce, 1401 Constitution Avenue NW, Washington, DC 20230; telephone: (202) 482-4849.

SUPPLEMENTARY INFORMATION:

Background

On April 21, 2020, we published in the Federal Register an AD order on cabinets from China, which included Xiamen Goldenhome.¹ Pursuant to the Order, Commerce assigned Xiamen Goldenhome an AD cash deposit rate, adjusted for a subsidy offset, of 37.96 percent, based on the non-selected respondent rate.²

¹ See Wooden Cabinets and Vanities and Components Thereof from the People's Republic of China: Antidumping Duty Order, 85 FR 22126 (April 21, 2020) (Order).

² Id., 85 FR at 22127.

On July 19, 2021, Goldenhome informed Commerce that, as of October 9, 2020, Xiamen Goldenhome changed its name to “Goldenhome Living Co., Ltd.” ³ Goldenhome stated the change was in name only; all other former business operations remain unchanged.⁴ Goldenhome requested that Commerce conduct a CCR and find that Goldenhome is the successor-in-interest to Xiamen Goldenhome, and that it be subject to Xiamen Goldenhome's AD margin, pursuant to section 751(b) of the Tariff Act of 1930, as amended (the Act), and 19 CFR 351.216(b).⁵ After finding Goldenhome did not address the good cause requirement in its initial request pursuant to 19 CFR 351.216(c), Commerce issued a letter to Goldenhome requesting it demonstrate good cause.⁶ On August 30, 2021, Goldenhome filed its response demonstrating good cause in accordance with 19 CFR 351.216(c).⁷ We did not receive comments from other interested parties concerning this request.

³ See Goldenhome's Letter, “Wooden Cabinets and Vanities and Components Thereof from the People's Republic of China; Request for Changed Circumstances Review (A-570-106),” dated July 19, 2021.

⁴ Id. at 1-2 and 4.

⁵ Id.

⁶ See Commerce's Letter, “Supplemental Questionnaire Changed Circumstances Review Request Goldenhome Living Co., Ltd. (Goldenhome),” dated August 25, 2021.

⁷ See Goldenhome's Letter, “Wooden Cabinets and Vanities and Components Thereof from the People's Republic of China; Response to Second Supplemental Questionnaire (A-570-106),” dated August 27, 2021 (Good Cause Response).

Scope of the Order

The products covered by the Order are wooden cabinets and vanities that are for permanent installation (including floor mounted, wall mounted, ceiling hung or by attachment of plumbing), and wooden components thereof. For a complete description of the scope of the Order, see the Preliminary Decision Memorandum.⁸

⁸ See Memorandum, “Wooden Cabinets and Vanities and Components Thereof from the People's Republic of China: Initiation and Preliminary Results of the Changed Circumstances Review; Preliminary Decision Memorandum,” dated concurrently with, and hereby adopted by this notice (Preliminary Decision Memorandum).

Initiation of Changed Circumstances Review

Section 751(b)(4)(B) of the Act and 19 CFR 351.216(c) state that, “in the absence of good cause shown,” the Secretary of Commerce may not review a final AD or countervailing duty (CVD) determination less than 24 months after the date of publication of the notice of final determination or notice of suspension of an investigation. The final determination of the AD investigation of cabinets from China published on February 28, 2020.⁹ Goldenhome argues that good cause exists to ensure the appropriate cash deposit rate applies to Goldenhome's entries and that Commerce previously found in similar situations that a name change, with no further changes in the company's operations, constitutes good cause pursuant to 19 CFR 351.216(c) to initiate a CCR.¹⁰ Therefore, we preliminarily find that good cause has been shown pursuant to 19 CFR 351.216(c) to initiate a CCR less than 24 months after the publication of the notice of final determination.¹¹

⁹ See Wooden Cabinets and Vanities and Components Thereof from the People's Republic of China: Final Affirmative Determination of Sales at Less Than Fair Value, 85 FR 11953 (February 28, 2020).

¹⁰ See Good Cause Response at 2-3 (citing Bulk Aspirin from the People's Republic of China; Initiation of Changed Circumstances Antidumping Duty Administrative Review, 67 FR 39344 (June 7, 2002); Certain Circular Welded Non-Alloy Steel Pipe from the Republic of Korea; Initiation of Changed Circumstances Antidumping Duty Administrative Review, 66 FR 12460 (February 27, 2001); and Notice of Initiation and Preliminary Results of Antidumping Duty Changed Circumstances Review: Certain Passenger Vehicle and Light Truck Tires From the People's Republic of China, 81 FR 44588 (July 8, 2018)). See also Certain Aluminum Foil and Common Alloy Aluminum Sheet from the People's Republic of China: Notice of Initiation and Preliminary Determination of Antidumping Duty and Countervailing Duty Changed Circumstances Reviews, 84 FR 48909 (September 17, 2019), and accompanying Preliminary Decision Memorandum at 4-5.

¹¹ See Preliminary Decision Memorandum at 4-5.

Pursuant to section 751(b)(1)(A) of the Act and 19 CFR 351.216(d), Commerce will conduct a CCR upon receipt of information concerning, or a request from, an interested party for a review of an AD order which shows changed circumstances sufficient to warrant a review of the order. We preliminarily find the information provided sufficient to warrant a CCR of the Order. Specifically, the information submitted by Goldenhome supporting its claim that Goldenhome is the successor-in-interest to Xiamen Goldenhome demonstrates changed circumstances sufficient to warrant such a review.¹² In accordance with 751(b)(1)(A) of the Act and 19 CFR 351.216(d), we are initiating a CCR based on the information contained in Goldenhome's submission to determine whether Goldenhome is the successor-in-interest to Xiamen Goldenhome.

¹² See 19 CFR 351.216(d).

Section 351.221(c)(3)(ii) of Commerce's regulations permits Commerce to combine the notice of initiation of a CCR and the notice of preliminary results if Commerce concludes that expedited action is warranted.¹³ In this instance, because the record contains information necessary to make a preliminary finding, we find that expedited action is warranted and have combined the notice of initiation and the notice of preliminary results.¹⁴

¹³ See 19 CFR 351.221(c)(3)(ii).

¹⁴ See, e.g., Notice of Initiation and Preliminary Results of Changed Circumstances Reviews: Certain Passenger Vehicle and Light Truck Tires from the People's Republic of China, 85 FR 5193 (January 29, 2020), unchanged in Certain Passenger Vehicle and Light Truck Tires from the People's Republic of China: Final Results of Changed Circumstances Reviews, 85 FR 14638 (March 13, 2020) (Passenger Vehicle and Light Truck Tires from China CCR).

Preliminary Results of Changed Circumstances Review

In determining whether one company is the successor to another for AD purposes, Commerce examines several factors including, but not limited to, changes in: (1) Management; (2) production facilities; (3) suppliers; and (4) customer base. While no one, or several, of these factors will necessarily provide a dispositive indication of succession, Commerce will generally consider one company to be the successor to another company if its resulting operations are essentially the same as those of its predecessor. Thus, if the evidence demonstrates that, with respect to the production and sale of the subject merchandise, the company, in its current form, operates as essentially the same business entity as the prior company, Commerce will assign the new company the cash deposit rate of its predecessor.¹⁵

¹⁵ See Initiation and Preliminary Results of Antidumping Duty Changed Circumstances Review: Multilayered Wood Flooring from the People's Republic of China, 79 FR 48117,48118 (August 15, 2014), unchanged in Multilayered Wood Flooring from the People's Republic of China: Final Results of Changed Circumstances Review, 79 FR 58740 (September 30, 2014).

In accordance with 19 CFR 351.216, we preliminarily determine that Goldenhome is the successor-in-interest to Xiamen Goldenhome. Record evidence, as submitted by Goldenhome, indicates that, based on the totality of the circumstances under Commerce's successor-in-interest criteria, Goldenhome's management and business relations are virtually identical to those of Xiamen Goldenhome before the name change with respect to the merchandise under review. Moreover, we preliminarily find that Goldenhome's production facilities, supplier relationships, and customer base, regarding the merchandise under review, are substantially the same as Xiamen Goldenhome before the name change. For the complete successor-in-interest analysis, see the Preliminary Decision Memorandum.

Should the final results of review remain the same as these preliminary results of review, effective the date of publication of the final results of review, we will instruct U.S. Customs and Border Protection to apply to entries of subject merchandise exported by Goldenhome the AD cash deposit rate applicable to Xiamen Goldenhome.

Public Comment

Interested parties may submit case briefs no later than 14 days after the date of publication of this notice.¹⁶ Rebuttal briefs, limited to issues raised in the case briefs, may be filed no later than seven days after the time limit for filing case briefs.¹⁷ Commerce modified certain of its requirements for serving documents containing business proprietary information until further notice.¹⁸ Parties who submit case briefs or rebuttal briefs in this proceeding are requested to submit with each brief: (1) A statement of the issue; (2) a brief summary of the argument; and (3) a table of authorities.¹⁹ Executive summaries should be limited to five pages total, including footnotes.²⁰ All submissions, with limited exceptions, must be filed electronically using ACCESS.²¹ Electronically filed comments must be received successfully in its entirety by Commerce's electronic records system, ACCESS, by 5 p.m. Eastern Time on the due date.

¹⁶ Commerce is exercising its discretion under 19 CFR 351.309(c)(1)(ii) to alter the time limit for the filing of case briefs.

¹⁷ See 19 CFR 351.309(d)(1); see also Temporary Rule Modifying AD/CVD Service Requirements Due to COVID-19; Extension of Effective Period, 85 FR 41363 (July 10, 2020) (Temporary Rule).

¹⁸ See Temporary Rule.

¹⁹ See 19 CFR 351.309(c)(2) and (d)(2).

²⁰ Id.

²¹ See 19 CFR 351.303.

Pursuant to 19 CFR 351.310(c), interested parties who wish to request a hearing, must submit a written request to the Assistant Secretary for Enforcement and Compliance, filed electronically via ACCESS. Requests should contain: (1) The party's name, address, and telephone number; (2) the number of participants; and (3) a list of issues to be discussed. Issues raised in the hearing will be limited to those raised in the respective case briefs. If a request for a hearing is made, Commerce intends to hold the hearing at a time and date to be determined. An electronically filed hearing request must be received successfully in its entirety by Commerce's electronic records system, ACCESS, by 5:00 p.m. Eastern Time within 14 days after the date of publication of this notice.²²

²² Commerce is exercising its discretion under 19 CFR 351.310(c) to alter the time limit for requesting a hearing.

Consistent with 19 CFR 351.216(e), Commerce intends to issue the final results of this CCR no later than 270 days after the date on which this review was initiated, or within 45 days of publication of these preliminary results, if all parties agree to our preliminary finding.

Notification to Interested Parties

This notice is published in accordance with sections 751(b)(1) and 777(i) of the Act, and 19 CFR 351.216(b) and 351.221(c)(3).

Dated: August 30, 2021.
James Maeder,
Deputy Assistant Secretary for Antidumping and Countervailing Duty Operations.

Appendix

List of Topics Discussed in the Preliminary Decision Memorandum

I. Summary

II. Background

III. Scope of the Order

IV. Good Cause

V. Successor-In-Interest Determination

VI. Recommendation

[FR Doc. 2021-18992 Filed 9-1-21; 8:45 am]

BILLING CODE 3510-DS-P